NUCLEAR REGULATORY COMMISSION

[Docket No. 40-8943-MLA; ASLBP No. 07-859-03-MLA-BD01]

Crow Butte Resources, Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Crow Butte Resources, Inc., In-Situ Leach Uranium Recovery Facility, Crawford, Nebraska, License Amendment for the North Trend Expansion Area)

This Board is being established in response to requests for hearing that were filed pursuant to a Notice of Opportunity for Hearing posted on NRC's Public Web site on September 13, 2007 regarding a Request for License Amendment submitted by Crow Butte Resources, Inc. (“CBR”) on May 30, 2007 that would allow CBR to develop a satellite facility near its existing in-situ leach uranium recovery facility in Crawford, Nebraska. This proceeding concerns the requests for hearing and petitions for intervention submitted by: (1) Debra L. White Plume; (2) Debra L. White Plume, Director, Owe Aku, Bring Back the Way; (3) Western Nebraska Resources Council; (4) Thomas Kanatakeniate Cook; (5) Slim Buttes Agricultural Development Corporation; (6) Chadron Native American Center, Inc.; and (7) High Plains Community Development Corporation.

The Board is comprised of the following administrative judges:

Ann Marshall Young, Chair, Atomic Safety and Licensing Board Panel, U.S. Nuclear Regulatory Commission, Washington, DC 20555-0001.

Dr. Richard F. Cole, Atomic Safety and Licensing Board Panel, U.S. Nuclear Regulatory Commission, Washington, DC 20555-0001.

Dr. Frederick W. Oliver, Atomic Safety and Licensing Board Panel, U.S. Nuclear Regulatory Commission, Washington, DC 20555-0001.

All correspondence, documents, and other materials shall be filed with the administrative judges in accordance with 10 CFR 2.302.

Issued at Rockville, Maryland, this 11th day of December 2007.
E. Roy Hawkens,
Chief Administrative Judge, Atomic Safety and Licensing Board Panel.

[FR Doc. E7-24387 Filed 12-14-07; 8:45 am]

BILLING CODE 7590-01-P